DEPARTMENT OF LABOR

Employment and Training Administration

Investigations Regarding Certifications of Eligibility To Apply for Worker Adjustment Assistance

Petitions have been filed with the Secretary of Labor under section 221(a) of the Trade Act of 1974 (“the Act”) and are identified in the Appendix to this notice. Upon receipt of these petitions, the Director of the Division of Trade Adjustment Assistance, Employment and Training Administration, has instituted investigations pursuant to section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than November 16, 2001.

Interested persons are invited to submit written comments regarding the subject matter of the investigations to the Director, Division of Trade Adjustment Assistance, at the address shown below, not later than November 16, 2001.

The petitions filed in this case are available for inspection at the Office of the Director, Division of Trade Adjustment Assistance, Employment and Training Administration, U.S. Department of Labor, Room C-5311, 200 Constitution Avenue, NW., Washington, DC 20210.

Dated: Signed at Washington, DC this 9th day of October, 2001.
Edward A. Tomchick,
Director, Division of Trade Adjustment Assistance.

Appendix.—Petitions Instituted on 10/09/2001
TA-W | Subject firm (petitioners) | Location | Date of petition | Product(s)
40,155 | Burle Industries (Co.) | Lancaster, PA | 09/28/2001 | Specialized Electron Tubes.
40,156 | Jem Sportwear (Wkrs) | San Fernando, CA | 09/17/2001 | Children's and Adult Apparel.
40,157 | Steel (The) Company (Wkrs) | Chicago, IL | 07/10/2001 | Pickled Coils and Cold Roll Steel.
40,158 | Temple Inland Forest (Co.) | Shippenville, PA | 09/10/2001 | Wood.
40,159 | Mirelle Manufacturing (Co.) | Carterville, GA | 09/18/2001 | English Riding Apparel.
40,160 | Crystal Manufacturing (UNITE) | Fall River, MA | 09/17/2001 | Dresses, Suits and Blouses.
40,161 | JVC Digital Image Tech. (Wkrs) | Carlsbad, CA | 09/18/2001 | Cinema Screen Large Projections.
40,162 | Coraza (Computer Cabinet) (Wkrs) | San Jose, CA | 09/18/2001 | NC Machines, Hardware, Welders.
40,163 | Acu Crimp, Inc. (Co.) | El Paso, TX | 09/21/2001 | Tooling for Applicator Dies.
40,164 | Rayovac Corporation (Wkrs) | Portage, WI | 09/14/2001 | Lithium Batteries.
40,165 | Fujikura Composite (Wkrs) | Vista, CA | 09/26/2001 | Graphite Golf Club Shafts.
40,166 | Security Chain Mfg. (Wkrs) | Clackamas, OR | 09/12/2001 | Cable Chain Products.
40,167 | American Magnetics (Wkrs) | Cypress, CA | 09/20/2001 | Card Readers for Printers.
40,168 | Stitches, Inc. (Co.) | El Paso, TX | 09/18/2001 | Industrial Clohing.
40,169 | Curtain and Drapery (Wkrs) | Gastonia, NC | 09/20/2001 | Home Furnishings.
40,170 | Amerex Mens Group (Wkrs) | New York, NY | 09/08/2001 | Men's Outerwear.
40,171 | Herman Schwabe, Inc. (Wkrs) | W. Hazleton, PA | 09/18/2001 | Die Cutting Machinery.
40,172 | SGL Carbon Corp (IUE) | St. Marys, PA | 09/20/2001 | Graphite.
40,173 | Benson Corp. (Wkrs) | Weyauwega, WI | 09/19/2001 | Metal Juvenile Crib Springs.
40,174 | Diamond Tool and Die (Co.) | Townville, PA | 09/18/2001 | Machine Parts and Spare Tooling.
40,175 | Bethlehem Steel Corp (Co.) | Chesterton, IN | 09/12/2001 | Steel Plate, Hot, Cold Rolled Sheets.
40,176 | OWT Industries (Wkrs) | Pickens, SC | 09/20/2001 | Electric Power Tools.
40,177 | Autoforge, Inc. (Wkrs) | Harmonsburg, PA | 09/27/2001 | Forgings.
40,178 | Corning Cable Systems (Wkrs) | Hickory, NC | 09/20/2001 | Fiber Cable.
40,179 | Ruppe Hosiery, Inc. (Co.) | Kings Mountain, NC | 09/17/2001 | Socks.
40,180 | Skinner Engine Co. (Co.) | Erie, PA | 09/27/2001 | Rubber Batch Mixers.
40,181 | BASF Corporation (Co.) | Rensselaer, NY | 09/25/2001 | Dyestuffs.
40,182 | Aquatech, Inc. (Co.) | Cookeville, TN | 09/18/2001 | Commercial Laundry.
40,183 | Optical Coating (Wkrs) | Rochester, NY | 09/27/2001 | Coated Lenses.
40,184 | Parker Hannifin Corp. (Wkrs) | Belleville, NJ | 09/26/2001 | Gas Valves.
40,185 | Northrop Grumman (Co.) | Watertown, CT | 09/26/2001 | Electronic Connectors.
40,186 | B.G. Sulzle, Inc. (Wkrs) | Syracuse, NY | 09/26/2001 | Surgical Needles.
40,187 | Advanced Wood Resources (Wkrs) | Brownsville, OR | 09/22/2001 | Composite Sub-Flooring.
40,188 | GFC Foam LLC (USWA) | West Hazleton, PA | 09/28/2001 | Foam.
40,189 | Philadelphia Glass (Wkrs) | Philadelphia, PA | 09/01/2001 | Decorative Bent Glass.
40,190 | EM Solutions (Wkrs) | Gretna, VA | 09/24/2001 | Metal Chassis Enclosures.
40,191 | Speedline Technologies (Wkrs) | Comdenton, MO | 08/08/2001 | Soldering and Cleaning Machines.
40,192 | Campolast Acurfab (Wkrs) | Chillicothe, OH | 09/26/2001 | Fiberglass Truck Parts.
40,193 | Wilson Sporting Goods (Wkrs) | Fountain Inn, SC | 09/24/2001 | Tennis Balls—Tournaments.
40,194 | Tyco Electronics (Wkrs) | Carlisle, PA | 09/24/2001 | Plating Electrical Connectors.
40,195 | Warwood Tool Co. (Wkrs) | Wheeling, WV | 09/26/2001 | Forged Hand Tools.
40,196 | Motorola (Co.) | Suwanee, GA | 08/13/2001 | Radios.

[FR Doc. 01-27803 Filed 11-5-01; 8:45 am]

BILLING CODE 4510-30-M